DEPARTMENT OF COMMERCE

National Telecommunications and Information Administration

Multistakeholder Process To Promote Collaboration on Vulnerability Research Disclosure

AGENCY: National Telecommunications and Information Administration, U.S. Department of Commerce.

ACTION: Notice of open meeting, location change.

SUMMARY: This notice announces a change in the location of a public meeting of the multistakeholder process concerning the collaboration between security researchers and software and system developers and owners to address security vulnerability disclosure.

DATES: The meeting will be held on December 2, 2015, from 10:30 a.m. to 4:30 p.m., Eastern Time. See Supplementary Information for details.

ADDRESSES: The meeting will be held at the Washington Marriott at Metro Center, 775 12th Street NW., Washington, DC 20005.

FOR FURTHER INFORMATION CONTACT: Allan Friedman, National Telecommunications and Information Administration, U.S. Department of Commerce, 1401 Constitution Avenue NW., Room 4725, Washington, DC 20230; telephone (202) 482-4281; email; afriedman@ntia.doc.gov. Please direct media inquiries to NTIA's Office of Public Affairs, (202) 482-7002; email press@ntia.doc.gov.

SUPPLEMENTARY INFORMATION: On November 16, 2015, the National Telecommunications and Information Administration published in the Federal Register a notice announcing a public meeting of the multistakeholder process concerning the collaboration between security researchers and software and system developers and owners to address security vulnerability disclosure to be held at the 20 F Street NW Conference Center, 20 F Street NW., Washington, DC 20001. See 80 FR 70760 (November 16, 2015). The meeting will now be held at the Washington Marriott at Metro Center, 775 12th Street NW., Washington, DC 20005. All other information regarding this public meeting remains unchanged. Please refer to NTIA's Web site, http://www.ntia.doc.gov/other-publication/2015/multistakeholder-process-cybersecurity-vulnerabilities, for the most current information.

Dated: November 18, 2015.
Kathy D. Smith,
Chief Counsel, National Telecommunications and Information Administration.

[FR Doc. 2015-29810 Filed 11-20-15; 8:45 am]

BILLING CODE 3510-60-P